DEPARTMENT OF JUSTICE

Notice of Lodging of Proposed Consent Decree Under the Comprehensive Environmental Response, Compensation and Liability Act

On December 18, 2020, the Department of Justice lodged a proposed Consent Decree with the United States District Court for the Southern of Texas in the lawsuit entitled United States v. Allied Transportation Company, et al., Civil Action No. 3:20-cv-382.

The United States filed a Complaint against the defendants pursuant to Sections 106 and 107 of the Comprehensive Environmental Response, Compensation and Liability Act (“CERCLA”), 42 U.S.C. ¶ 9606, 9607. The Complaint seeks, inter alia, injunctive relief to perform a cleanup at the Gulfco Marine Maintenance NPL site (“Site”), an inactive barge facility located in Freeport, Brazoria County, Texas, and recovery of costs incurred by the United States in responding to the release of hazardous substances at the Site. Under the proposed Consent Decree, the Defendants will implement a remedy for ground water contamination that was selected by EPA on September 29, 2011. The Defendants will also pay past response costs in the amount of $1.2 million and reimburse the United States for future response costs.

The publication of this notice opens a period for public comment on the Consent Decree. Comments should be addressed to the Assistant Attorney General, Environment and Natural Resources Division, and should refer to United States v. Allied Transportation Company, et al., D.J. Ref. No. 90-11-2-09587. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $111.50 (25 cents per page reproduction cost) payable to the United States Treasury. For a paper copy without the exhibits and signature pages, the cost is $19.75.

Karen Dworkin,
Deputy Chief, Environmental Enforcement Section, Environment and Natural Resources Division.

[FR Doc. 2020-28744 Filed 12-28-20; 8:45 am]

BILLING CODE 4410-15-P